DEPARTMENT OF JUSTICE

Notice of Lodging of Consent Decree Under the Clean Air Act

Under 28 CFR 50.7, notice is hereby given that on August 11, 2003, a proposed Consent Decree (“Decree”) in United States v. Glencore AG, Civil Action No. 3:03CV1381 (JBA) was lodged with the United States District Court for the District of Connecticut.

In this action the United States seeks civil penalties and injunctive relief to address Glencore's alleged violations of the Clean Air Act and its implementing regulations in 40 CFR part 80 with respect to Glencore's importation, refining, distribution and sale of reformulated and conventional motor gasoline within the United States. The alleged violations include exceedances of the regulatory limits for Reid vapor pressure and exhaust benzene levels for certain batches of gasoline, three reporting or record keeping violations, and a tank sampling violation. To resolve these alleged violations, the Decree requires Glencore to pay a civil penalty of $450,000 to the United States and complete a three-year “Compliance Assurance Program” as specified in the Decree to ensure Glencore's future compliance with the Clean Air Act's programs and regulations concerning reformulated and conventional motor gasoline. The Compliance Assurance Program requires Glencore to retain an auditor or consultant to perform certain detailed periodic reviews and verification procedures with respect to Glencore's records, reports and laboratory data concerning its compliance with applicable fuel regulations.

The Department of Justice will receive for a period of thirty (30) days from the date of this publication comments relating to the Decree. Comments should be addressed to the Assistant Attorney General, Environment and Natural Resources Division, P.O. Box 7611, U.S. Department of Justice, Washington, D.C. 20044-7611, and should refer to United States v. Glencore AG, Civil Action No. 3:03CV1381 (JBA) (D. Conn.), D.J. Ref. 90-5-2-1-2169.

The Decree may be examined at the Office of the United States Attorney, Connecticut Financial Center, 157 Church Street, 23rd Floor, New Haven, CT 06508, and at U.S. EPA Region I, One Congress Street, Suite 1100, Boston MA 02114-2023. During the public comment period, the Decree may also be examined on the following Department of Justice Web site, http://www.usdoj.gov/enrd/open.html. A copy of the Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $5.25 (25 cents per page reproduction cost) payable to the U.S. Treasury.

Ronald Gluck,
Assistant Chief, Environmental Enforcement Section, Environment and Natural Resources Division.

[FR Doc. 03-21391 Filed 8-20-03; 8:45 am]

BILLING CODE 4410-15-M